DEPARTMENT OF STATE

[Delegation of Authority No. 337]

Delegation by the Deputy Secretary of State Regarding Department Representation on the Investment Working Group Established by the SelectUSA Executive Order

By virtue of the authority vested in the Secretary by the laws of the United States, including the State Department Basic Authorities Act, as amended (22 U.S.C. 2651a), and delegated to me pursuant to Delegation of Authority 245-1, I hereby delegate to the Under Secretary for Economic, Energy, and Agricultural Affairs and Assistant Secretary for Economic, Energy, and Business Affairs, to the extent authorized by law, the authority to represent the Department on the Federal Interagency Investment Working Group established by the SelectUSA Executive Order of June 15, 2011. The Under Secretary or Assistant Secretary shall exercise this authority in consultation with other Department officials, bureaus, and offices as appropriate.

Any act, executive order, regulation, or procedure subject to, or affected by, this delegation shall be deemed to be such act, executive order, regulation, or procedure as amended from time to time.

Notwithstanding this delegation of authority, the Secretary, the Deputy Secretary, or the Deputy Secretary for Management and Resources may at any time exercise any authority or function delegated by this delegation of authority.

This delegation of authority shall be published in the Federal Register.

Dated: June 24, 2011.
Thomas R. Nides,
Deputy Secretary of State, Department of State.

[FR Doc. 2011-17094 Filed 7-6-11; 8:45 am]

BILLING CODE 4710-07-P